DEPARTMENT OF HOUSING AND URBAN DEVELOPMENT

[Docket No. FR-5168-D-01]

Revocation and Redelegation of Administrative Authority Under Section 504 of the Rehabilitation Act of 1973

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO under Section 504 of the Rehabilitation Act of 1973, and HUD's implementing regulations, and redelegates certain authority as set forth herein to the General Deputy Assistant Secretary, who in turn redelegates certain authority as set forth herein to the Deputy Assistant Secretary for Enforcement and Programs, Director of the Office of Enforcement, Director of the Office of Systemic Investigations and the FHEO Region Directors.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001; telephone number (202) 619-8046 (this is not a toll-free number). Hearing- and speech-impaired individuals may access this number through TTY by calling the toll-free Federal Information Relay Service at (800) 877-8339.

SUPPLEMENTARY INFORMATION: The Secretary has delegated to the Assistant Secretary for FHEO the authority to act as “responsible civil rights official” and “reviewing civil rights official” under section 504 of the Rehabilitation Act of 1973 and HUD's implementing regulations in 24 CFR part 8. The Assistant Secretary for FHEO redelegated the authority to act as the “responsible civil rights official” to the General Deputy Assistant Secretary for FHEO, who in turn, redelegated that authority to the Deputy Assistant Secretary for Enforcement and Programs, Director of the Office of Enforcement and the FHEO Hub Directors. The Assistant Secretary for FHEO also redelegated the authority to act as “reviewing civil rights official,” in accordance with 24 CFR 8.56(h), to the General Deputy Assistant Secretary for FHEO, who in turn further redelegated that authority to the Deputy Assistant Secretary for Enforcement and Programs and the Director of the Office of Enforcement. Since then, FHEO has created an Office of Systemic Investigations. Further, the FHEO Hub Directors' titles have been changed to FHEO Region Directors. The Assistant Secretary for FHEO therefore now revokes those prior redelegations and retains and redelegates authority as follows:

Section A. Authority Redelegated

The Assistant Secretary for FHEO retains and, with limited exceptions set forth in Section B, redelegates the authority to act as the “responsible civil rights official” and the “reviewing civil rights official” to the General Deputy Assistant Secretary for FHEO, including the authority to redelegate that authority. The General Deputy Assistant Secretary for FHEO retains and further redelegates the authority to act as the “responsible civil rights official” to the Deputy Assistant Secretary for Enforcement and Programs, Director of the Office of Systemic Investigations, Director of the Office of Enforcement and the FHEO Region Directors. The General Deputy Assistant Secretary for FHEO retains and further redelegates the authority to act as “reviewing civil rights official,” in accordance with 24 CFR 8.56(h), to the Deputy Assistant Secretary for Enforcement and Programs, Director of the Office of Enforcement and the Director of the Office of Systemic Investigation.

Section B. Authority Excepted

The authority redelegated from the Assistant Secretary for FHEO does not include the authority to issue or waive regulations. The authority redelegated from the General Deputy Assistant Secretary for FHEO does not include the authority, under 24 CFR 8.57(a) and (e) (1), to determine that compliance cannot be effectuated through informal resolution, to terminate or refuse to grant or continue federal financial assistance for noncompliance under 24 CFR 8.57(c) and does not include the authority to further redelegate.

Section C. Authority Revoked

All prior redelegations of authority made within the Office of the Assistant Secretary for FHEO under section 504 of the Rehabilitation Act of 1973 are revoked.

Authority: Section 7(d) of the Department of Housing and Urban Development Act, 42 U.S.C. 3535(d).

Dated: May 31, 2007.
Kim Kendrick,
Assistant Secretary for Fair Housing and Equal Opportunity.
Cheryl Ziegler,
General Deputy Assistant Secretary for Fair Housing and Equal Opportunity.

Editorial Note: This document was received at the Office of the Federal Register on December 12, 2007.

[FR Doc. E7-24324 Filed 12-14-07; 8:45 am]

BILLING CODE 4210-67-P